DEPARTMENT OF TRANSPORTATION

Office of the Secretary

Notice of Meeting

AGENCY: Office of the Secretary, DOT

ACTION: Notice of meeting.

SUMMARY: The US Department of Transportation (DOT) announces a meeting of the DOT Partnership Council (the Council). Notice of this meeting is required under the Federal Advisory Committee Act.

TIME AND PLACE: The Council will meet on Friday, June 16, 2000, at 10 a.m., at the US Department of Transportation, Nassif Building, room 10214, 400 Seventh Street, SW., Washington, DC 20590. The room is located on the 10th floor.

TYPE OF MEETING: These meetings will be open to the public. Seating will be available on a first-come, first-served basis. Handicapped individuals wishing to attend should contact DOT to obtain appropriate accommodations.

POINT OF CONTACT: Jean B. Lenderking, Corporate Human Resource Leadership Division, M-13, US Department of Transportation, Nassif Building, 400 Seventh Street, SW., room 7411, Washington, DC 20590, (202) 366-8085.

SUPPLEMENTARY INFORMATION: The purpose of this meeting is to present the draft DOT Labor-Relations Strategic Plan; brief the members on DOT Labor-Management report to OMB/OPM; and welcome the American Federation of State, County and Municipal Employees to membership on the Council.

Public Participation: We invite interested persons and organizations to submit comments. Mail or deliver your comments or recommendations to Ms. Jean Lenderking at the address shown above. Comments should be received by June 5, 2000 in order to be considered at the June 16th meeting.

Issued in Washington, D.C., on May 22, 2000.
For the U.S. Department of Transportation.
John E. Budnik,
Acting Director, Office of Human Resource Management.

[FR Doc. 00-13359 Filed 5-26-00; 8:45 am]

BILLING CODE 4910-62-P